DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with May anniversary dates. In accordance with Commerce's regulations, we are initiating those administrative reviews.

DATES: Applicable July 12, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with May anniversary dates.

All deadlines for the submission of various types of information, certifications, or comments or actions by Commerce discussed below refer to the number of calendar days from the applicable starting time.

Notice of No Sales

With respect to AD administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the quantity and value (Q&V) questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Aluminum Extrusions From the People's Republic of China

In the event Commerce limits the number of respondents for individual examination in the administrative review of the AD order on aluminum extrusions from the People's Republic of China (China), Commerce intends to select respondents based on volume data contained in responses to Q&V questionnaires. Further, Commerce intends to limit the number of Q&V questionnaires issued in the review based on CBP data for U.S. imports of aluminum extrusions from China. The extremely wide variety of individual types of aluminum extrusion products included in the scope of the order on aluminum extrusions would preclude meaningful results in attempting to determine the largest China exporters of subject merchandise by volume. Therefore, Commerce will limit the number of Q&V questionnaires issued based on the import values in CBP data which will serve as a proxy for imported quantities. Parties subject to the review to which Commerce does not send a Q&V questionnaire may file a response to the Q&V questionnaire by the applicable deadline if they desire to be included in the pool of companies from which Commerce will select mandatory respondents. The Q&V questionnaire will be available on Commerce's website at https://trade.gov/enforcement/news.asp on the date of publication of this notice in the Federal Register. The responses to the Q&V questionnaire must be received by Commerce within 14 days of publication of this notice. Please be advised that due to the time constraints imposed by the statutory and regulatory deadlines for antidumping duty administrative reviews, Commerce does not intend to grant any extensions for the submission of responses to the Q&V questionnaire. Parties will be given the opportunity to comment on the CBP data used by Commerce to limit the number of Q&V questionnaires issued. We intend to release the CBP data under administrative protective order (APO) to all parties having an APO within seven days of publication of this notice in the Federal Register. Commerce invites comments regarding CBP data and respondent selection within five days of placement of the CBP data on the record.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate rate certifications are due to Commerce no later than 30 calendar days after publication of this Federal Register notice. The deadline and requirement for submitting a separate rate certification applies equally to NME-owned firms, wholly foreign-owned firms, and foreign sellers who purchase and export subject merchandise to the United States.

Entities that currently do not have a separate rate from a completed segment of the proceeding ³ should timely file a separate rate application to demonstrate eligibility for a separate rate in this proceeding. In addition, companies that received a separate rate in a completed segment of the proceeding that have subsequently made changes, including, but not limited to, changes to corporate structure, acquisitions of new companies or facilities, or changes to their official company name,⁴ should timely file a separate rate application to demonstrate eligibility for a separate rate in this proceeding. The separate rate application will be available on Commerce's website at https://access.trade.gov/Resources/nme/nme-sep-rate.html on the date of publication of this Federal Register notice. In responding to the separate rate application, refer to the instructions contained in the application. Separate rate applications are due to Commerce no later than 30 calendar days after publication of this Federal Register notice. The deadline and requirement for submitting a separate rate application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a separate rate application. Information regarding new trade names may be submitted via a separate rate certification.

Exporters and producers must file a timely separate rate application or certification if they want to be considered for individual examination. Furthermore, exporters and producers who submit a separate rate application or certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than May 31, 2024.

| Period to be reviewed
AD Proceedings
BELGIUM: Carbon and Alloy Steel Cut-to-Length Plate, A-423-812 | 5/1/22-4/30/23
Industeel Belgium S.A
NLMK Clabecq S.A
NLMK Plate Sales S.A
NLMK Sales Europe S.A
NLMK Manage Steel Center S.A
NLMK La Louviere S.A
NLMK Dansteel A.S
NLMK Verona SpA
C.A. Picard GmbH
Doerrenberg Edelstahl Gmb
Edgen Murray
EEW Steel Trading LLC
Fike Europe B.A
Macsteel International
NobelClad Europe GmbH & Co. KG
RP Technik GmbH Profilsysteme
Salzgitter Mannesmann International GmbH
Stahlo Stahl Service GmbH & Co. KG
Stemcor USA
Thyssenkrupp Steel Europe
TWF Treuhandgesellschaft Werbefilm mbH
Tranter Service Centers
Válcovny Trub Chomutov A.S
voestalpine Grobblech GmbH
BELGIUM: Stainless Steel Plate in Coils, A-423-808 | 5/1/22-4/30/23
Aperam Stainless Belgium NV (ASB)
ArcelorMittal Genk
Helaxa BVBA
Industeel Belgium
CAMBODIA: Mattresses, A-555-001 | 5/1/22-4/30/23
Best Mattresses International Company Limited
Rose Lion Furniture International Company Limited
CANADA: Large Diameter Welded Pipe, A-122-863 | 5/1/22-4/30/23
Acier Profile SBB Inc
Aciers Lague Steels Inc
Amdor Inc
BPC Services Group
Bri‐Steel Manufacturing
Canada Culvert
Canadian National Steel Corporation (CNSC); Evraz Inc. NA Canada (EICA); Evraz Inc. NA
Canam (St Gedeon)
Cappco Tubular Products Canada Inc
CFI Metal Inc
Dominion Pipe & Piling
Enduro Canada Pipeline Services
Fi Oilfield Services Canada
Forterra
Gchem Ltd
Graham Construction
Groupe Fordia Inc
Grupo Fordia Inc
Hodgson Custom Rolling
Hyprescon Inc
Interpipe Inc
K K Recycling Services
Kobelt Manufacturing Co
Labrie Environment
Les Aciers Sofatec
Lorenz Conveying P
Lorenz Conveying Products
Matrix Manufacturing
MBI Produits De Forge
Nor Arc
Peak Drilling Ltd
Pipe & Piling Sply Ltd
Pipe & Piling Supplies
Pipe Protecction
Prudental
Prudential
Shaw Pipe Protection
Tenaris Algoma Tubes Facility
Tenaris Prudential
Welded Tube of Can Ltd
FRANCE: Carbon and Alloy Steel Cut-To-Length Plate, A-427-828 | 5/1/22-4/30/23
Dillinger France S.A
Entrepose Industries
Formica S.A
Industeel France S.A.S
Laminoirs des Landes
GERMANY: Carbon and Alloy Steel Cut-To-Length Plate, A-428-844 | 5/1/22-4/30/23
AG der Dillinger Hüttenwerke
GREECE: Large Diameter Welded Pipe, A-484-803 | 5/1/22-4/30/23
Corinth Pipeworks Pipe Industry S.A
INDIA: Certain Welded Carbon Steel Standard Pipes and Tubes, A-533-502 | 5/1/22-4/30/23
Apl Apollo Tubes Limited
Asian Contec Ltd
Bhandari Foils & Tubes Ltd
Bhushan Steel Ltd
Blue Moon Logistics Pvt. Ltd
CH Robinson Worldwide
Ess-Kay Engineers
Manushi Enterprise
Nishi Boring Corporation
Garg Tube Export LLP; Garg Tube Limited
GCL Private Limited
Goodluck India Ltd
GVN Fuels Ltd
Fiber Tech Composite Pvt. Ltd
Hydromatik
Jindal Quality Tubular Ltd
KLT Automatic & Tubular Products Ltd
Lloyds Line Pipes Ltd.; Lloyds Metals & Engineers Limited
MARINEtrans India Private Ltd
Patton International Ltd
Raajratna Ventures Ltd
Ratnamani Metals Tubes Ltd
SAR Transport Systems Pvt. Ltd
Surya Global Steel Tubes Ltd
Surya Roshni Ltd
Vallourec Heat Exchanger Tubes Ltd
Welspun India Ltd
Zenith Birla (India) Ltd
Zenith Birla Steels Private Ltd
Zenith Dyeintermediates Ltd
INDIA: Organic Soybean Meal, A-533-901 | 11/2/21-4/30/23
Abhay Oil Industries
Agrawal Oil & Biocheam
Bergwerff Organic India Pvt., Ltd.; Bergwerff Organic Private Limited/Suminter
India Organic Private Limited
Bio Treasure Overseas
Delight Lifelike Products Private Ltd
Delight Sustainable Products LLP
Eco Gold Nutri And Organics LLP
Ecopure Specialities Ltd
Jay Shree Agro Products
Kaj Traders
Kanishka Organics LLP
Keshav Proteins and Organic LLP
Kiesriya Agro Exim Pvt., Ltd
Mani Loni
Navjyot International Pvt., Ltd
Prasad Cotton Industries Pvt., Ltd
Radha Krishna Oil Product
Raj Foods International
Raj Natural Food Pvt., Ltd
Rajat Agro Commodities Pvt., Ltd
Reindeer Organics LLP
Sai Smaran Foods Ltd
Satguru Agro Resources Private Ltd
Satguru Organics Pvt., Ltd
Seasons International Pvt., Ltd
Shanti Overseas
Shanti Worldwide
Shemach Impex
Shivam Enterprises
Shri Narayani Mfg. Co
Shri Sumati Industries Pvt. Ltd
Suminter India Organics Pvt., Ltd
Tejawat Organic Foods
Unique Organics Ltd
Vimala Food Products
Vinod Kumar Ranjeet Singh Bafna
We Organic Nature Pvt. Ltd
INDIA: Silicomanganese, A-533-823 | 5/1/22-4/30/23
Maithan Alloys Limited
Rajadhiraj Tirupani Vinayak Natraj Pvt. Ltd
INDONESIA: Mattresses, A-560-836 | 5/1/22-4/30/23
Bali Natural Latex
CV. Aumireta Anggun
CV. Lautan Rezeki
Duta Abadi Primantara, Pt
Ecos Jaya JL Pasir Awi
Mimpi
P.T. Barat Daya Gemilang
PT Celebes Putra Prima
PT Champion Mattress Indonesia Manufacturing
PT Demak Putra Mandiri
PT Ecos Jaya Indonesia
PT Graha Anom Jaya
PT Graha Seribusatujaya
PT Grantec Jaya Indonesia
PT Kline Total Logistics Indonesia
PT Rubberfoam Indonesia
PT Solo Murni Epte
PT Zinus Global Indonesia
PT. Ateja Multi Industri
PT. Ateja Tritunggal
PT. Aurora World Cianjur
PT. Cahaya Buana Furindotama
PT. CJ Logistics Indonesia
PT. Dinamika Indonusa Prima
PT. Dunlopillo Indonesia
PT. Dynasti Indomegah
PT. Grantec Jaya Indonesia
PT. Massindo International
PT. Ocean Centra Furnindo
PT. Quantum Tosan Internasional
PT. Romance Bedding & Furniture
PT. Royal Abadi Sejahtera
PT. Transporindo Buana Kargotama
Sonder Canada Inc
Super Poly Industry PT
Zinus, Inc
ITALY: Carbon and Alloy Steel Cut-To-Length Plate, A-475-834 | 5/1/22-4/30/23
Officine Tecnosider srl
NLMK Verona SpA
JAPAN: Carbon and Alloy Steel Cut-To-Length Plate, A-588-875 | 5/1/22-4/30/23
Chubu Steel Plate Co. Ltd
Daido Steel Co., Ltd
Hanwa Co. Ltd
JFE Shoji Trade Corp
JFE Steel Corporation
Kanematsu Corporation
Kobe Steel Ltd
Marubeni-Itochu Steel Inc
Metal One Corp
Mitsubishi Steel Manufacturing Co., Ltd
Mitsui & Co., Ltd
Nakayama Steel Works Ltd
Nippon Steel Corporation
Okaya & Co., Ltd
Sumisho Metalex Corp
Tokyo Steel Manufacturing Co., Ltd
Topy Industries Ltd
JAPAN: Diffusion-Annealed, Nickel-Plated Flat-Rolled Steel Products, A-588-869 | 5/1/22-4/30/23
Nikken Lath Kogyo Co., Ltd
Taiyo Manufacturing Co., Ltd
Toyo Kohan Co., Ltd
OMAN: Polyethylene Terephthalate Resin, A-523-810 | 5/1/22-4/30/23
OCTAL Inc
OCTAL SAOC FZC
REPUBLIC OF KOREA: Carbon and Alloy Steel Cut-To-Length Plate, A-580-887 | 5/1/22-4/30/23
POSCO; POSCO International Corporation; Taechang Steel Co., Ltd.; Winsteel Co., Ltd.; POSCO SPS
REPUBLIC OF KOREA: Carbon and Alloy Steel Wire Rod, A-580-891 | 5/1/22-4/30/23
POSCO; POSCO International Corporation
REPUBLIC OF KOREA: Large Diameter Welded Pipe, A-580-897 | 5/1/22-4/30/23
AJU Besteel Co., Ltd
Chang Won Bending Co., Ltd
Daiduck Piping Co., Ltd
Dong Yang Steel Pipe Co., Ltd
Dongbu Incheon Steel Co., Ltd
EEW KHPC Co., Ltd
EEW Korea Co., Ltd
Geumok Tech. Co., Ltd
Hansol Metal Co. Ltd
HiSteel Co., Ltd
Husteel Co., Ltd
Hyundai RB Co., Ltd
Hyundai Steel Company
Il Jin Nts Co. Ltd
Kiduck Industries Co., Ltd
Kum Kang Kind. Co., Ltd
Kumsoo Connecting Co., Ltd
Nexteel Co., Ltd
SeAH Steel Corporation
Seonghwa Industrial Co., Ltd
SIN‐E B&P Co., Ltd
Steel Flower Co., Ltd
WELTECH Co., Ltd
SERBIA: Mattresses, A-801-002 | 5/1/22-4/30/23
Healthcare Europe DOO Ruma
TAIWAN: Stainless Steel Plate in Coils, A-583-830 | 5/1/22-4/30/23
Aurora Metal International Co., Ltd
Best Bridge International Ltd
Build Up Hardware Co., Ltd
Chain Chon Industrial Co., Ltd
Chang Mien Industries Co., Ltd
Chia Far Industries Factory Co., Ltd
Chien Shing Stainless Co., Ltd
China Steel Corporation
China Tah Lee Special Steel Co., Ltd
Da Song Enterprise Co., Ltd
Da Tsai Stainless Steel Co., Ltd
East Track Enterprise Co., Ltd
Gifull Enterprise Co., Ltd
Goang Jau Shing Enterprise Co., Ltd
Goldioceans International Co., Ltd
High Point Steel Mfg. Co., Ltd
Hoka Elements Co., Ltd
Huang-Yi Steel Coil Co., Ltd
JJSE Co., Ltd
Jye Chi Corporation
Kunn Chuan Enterprise Co., Ltd
Lien Kuo Metal Industries Co., Ltd
Lung An Stainless Ind. Co., Ltd
Omen Bright Co., Ltd
PFP Taiwan Co., Ltd
Pyramid Metal Technology Co., Ltd
Shing Shong Ta Metal Co., Ltd
Shye Yao Steel Co., Ltd
Sinkang Industries Co., Ltd
S-More Steel Materials Co., Ltd
Staunch Stainless Steel Co., Ltd
Sun Chun Stainless Co., Ltd
Ta Chen International
Ta Chen Stainless Pipe Co., Ltd
Ta Fong Steel Co., Ltd
Taiwan Nippon Steel Stainless
Tang Eng Iron Works
Tsung Yui Enterprise Co., Ltd
Tzong Ji Metals Co., Ltd
Wuu Jing Enterprise Co., Ltd
Yc Inox Co., Ltd
Yi Shuenn Enterprise Co., Ltd
Yieh Loong Enterprise Co., Ltd.; Chung Hung Steel Co., Ltd
Yieh Mau Corporation
Yieh Trading Co
Yieh United Steel Corporation
Yuan Long Stainless Steel Corp
Yuen Chang Stainless Steel Co., Ltd
Yuh Sheng Stainless Steel Co., Ltd
TAIWAN: Stilbenic Optical Brightening Agents, A-583-848 | 5/1/22-11/26/22
Teh Fong Ming International Co., Ltd.; Teh Fong Min International Co., Ltd
THAILAND: Mattresses, A-549-841 | 5/1/22-4/30/23
Saffron Living Co., Ltd
THE PEOPLE'S REPUBLIC OF CHINA: Aluminum Extrusions, A-570-967 | 5/1/22-4/30/23
Ailenmr (Tianjin) Machinary
American International Cargo Service Inc
Anson
Anson Ltd.—Shanghai Metal Fabrication
Anhui Morden Living Co., Ltd
Beijing Kingpeng International Agriculture Corporation
Bisen Smart Access Co., Ltd
Caribbean Galaxy Aluminum, S.R.L
Changshu Wojun Machinery Equipment
Changzhou Hivalue Impex Co Ltd
Changzhou Infusion Plastics Industries
Changzhou Ryan-Al Door
Chenming Industry and Commerce Shouguang Co., Ltd
China Jwell Intelligent Plastic Extrusion Machinery Co., Ltd
CTW Furniture Co., Ltd
Dongying Andy Petroleum Machinery Co., Ltd
Dura Shower Enclosures Co., Ltd
East Asia Aluminum Co., Ltd
Eastlinx Xiamen Co., Ltd
Epson Engineering (Shenzhen) Ltd
Favour Light Co Ltd
Foshan City Nanhai Yongfeng Aluminum
Fuzhou J&K Imp.&Exp. Co., Ltd
General Equipment Technology Development Ltd
Guangdong JMA Aluminum Profile Factory (Group) Co., Ltd
Guangdong Suyue Aluminium Co., Ltd
Guangdong Victor Aluminum Co., Ltd
Guangdong Yaoyinshan Aluminum Co., Ltd
Guangzhou Graly Lighting Co., Ltd
Hangzhou Evernew Machinery & Equipment Co., Ltd
Hangzhou Siyi Imp.&Exp. Co., Ltd
Hota International Logistics Co., Ltd
Huazhijie Plastic Products
Hui Qian (Shanghai) International Trading Co., Ltd
Jakks Pacific (HK) Ltd
Jer Education Technology
Jiangsu Asia Pacific Aviation Technology Co., Ltd
Jiangsu Xinhuang Curtain Wall Co., Ltd
Jiangsu SV Precision Components
Jiangsu Singcheer Intelligent Equipment Co., Ltd
Jiangsu Yizheng Haitian Aluminum Industrial
Jinming Machinery (Guangdong) Co., Ltd
Lien Chiang Furniture Hardware Co
LongKou Mat Aluminium Co., Ltd
Maxable Global Company Limited
Ningbo Baihui Furniture Co., Ltd
Ningbo China-Base Import & Export Co
Ningbo Huige Metal Products Co., Ltd
Ningbo Mark One International
Ningbo Yinzhou Outdoor Equipment Co., Ltd
Pacific Precise International Ltd
PGI Far East Precision Products
Qingdao Huayu Hardware Products Co
Qingdao Mrp Industry Co., Ltd
Qingdao Sea Nova Building
Reifenhauser Plastic Machinery (Suzhou) Co., Ltd
Sanming Foreign Trade Development Co., Ltd
Shaanxi Simex Enterprise Co., Ltd
Shandong Golden Realm Industrial Co., Ltd
Shandong Huajian Aluminum Group Co
Shandong Mount Tai Sheng Li Yuan Glass Co., Ltd
Shanghai An Mao E-Commerce Co Ltd
Shanghai Promise Metal Co., Ltd
Shanghai Xindun Trade Co., Ltd
Shenyang Yuanda Aluminum Industry Engineering Co. Ltd
Shenzhen Beiruitong Trade Co., Ltd
Shenzhen Thomas Homeware Co., Limited
Shenzhen Wision Industrial Co., Ltd
Shenzhen Xinjiayi Plastic & Metal, Co. Ltd
Shenzhen Zhongyuan Electronic Co., Ltd
ShineLong Technology Corp., Ltd
Sichuan Hangxin New Glazing Material Co., Ltd
Suzhou Bonate Int. Trading Co., Ltd
Suzhou Futong New Materials and High-tech Co., Ltd
Qingdao Sea Nova Building Profiles
The Tigereye International Trading Co. Ltd
Tianjin Hongleey Tech Co., Ltd
Tianjin Hyosung Packaging Product Co., Ltd
Top Asian Resource Co., Ltd
Wuxi Longdet Imp. & Exp. Co., Ltd
Wuxi Rapid Scaffolding Engineering
Xiamen Rex. Technology Co., Ltd
Yantai Jintai International
Yantai Jintai International Trade
Yantai Jintai International Trade Co., Ltd
Yonn Yuu Enterprise Co., Ltd
Yuyao Royal Industrial
Zhangzhou Jindian Craft Product Co., Ltd
Zhejiang Hengfeng Technology Co., Ltd
Zhejiang Tangzhengge Plastic Technology Co., Ltd
Zhuji Wenfeng Import and Export Co
Zhejiang Zhong Ming Ji Xiang
THE PEOPLE'S REPUBLIC OF CHINA: Citric Acid and Citrate Salt, A-570-937 | 5/1/22-4/30/23
RZBC Group Co., Ltd
RZBC Co., Ltd
RZBC Import & Export Co., Ltd
RZBC (Juxian) Co., Ltd
THE PEOPLE'S REPUBLIC OF CHINA: Non-Refillable Steel Cylinders, A-570-126 | 5/1/22-4/30/23
Ningbo Eagle Machinery & Technology Co., Ltd
Sanjiang Kai Yuan Co. Ltd
Wuyi Xilinde Machinery Manufacture Co., Ltd
Zhejiang KIN-SHINE Technology Co., Ltd
THE PEOPLE'S REPUBLIC OF CHINA: Pure Magnesium, A-570-832 | 5/1/22-4/30/23
Tianjin Magnesium International Co., Ltd
Tianjin Magnesium Metal Co., Ltd
THE PEOPLE'S REPUBLIC OF CHINA: Certain Vertical Shaft Engines Between 99cc and up to 225CC, and Parts Thereof, A-570-124 | 5/1/22-4/30/23
Chongqing Zongshen General Power Machine Co., Ltd.; Chongqing Dajiang Power Equipment Co., Ltd.; Chongqing Zongshen Power Machinery Co., Ltd
TURKEY: Circular Welded Carbon Steel Pipes and Tubes, A-489-501 | 5/1/22-4/30/23
Borusan Mannesmann Boru Sanayi ve Ticaret A.S
TURKEY: Large Diameter Welded Pipe, A-489-833 | 5/1/22-4/30/23
Cagil Makina San ve Tic A.S
Çimtaş Boru Imalatiral Ticaret Ltd
Emek Boru Makina Sanayi ve Ticaret A.S
Erciyas Celik Boru Sanayi A.S
HDM Celik Boru Sanayi ve Ticaret A.S./HDM Spiral Kaynakli Celik Boru A.S.⁵
Mazlum Mangtay Boru Son. Ins. Tar.Urn.San.ve Tic. A.S
Noksel Celik Boru Sanayi A.S
Ozbal Celik Boru San. Tic. Ve TAAH A.S
Spirally Welded Steel Pipe Inc
Toscelik Profil ve Sac End. A.S.⁶
Toscelik Spiral Boru Uretim A.S
Umran Celik Boru Sanayii A.S
UNITED ARAB EMIRATES: Certain Steel Nails, A-520-804 | 5/1/22-4/30/23
Al Falaq Building Materials
Al Khashab Building Materials Co., LLC
Al Rafaa Star Building Materials Est
Al Sabbah Trading and Importing, Est
Al-Khatib Est
All Ferro Building Materials, LLC
Asgarali Yousuf Trading Co., LLC
Azymuth Consulting, LLC
Burj Al Tasmeem, Tr
Gheewala Hardware Trading Company, LLC
Madar UAE
Master Nails and Pins Manufacturing LLC/Middle East Manufacturing Steel, LLC
Mustafa Building Materials Co. (LLC)
New World International, LLC
Okzeela Star Building Materials Trading, LLC
Rich Well Steel Industries LLC
Rishi International, FZCO
Samrat Wire Industry, LLC
Sea Lan Contracting
SK Metal International DMCC
Trade Circle Enterprises, LLC
CVD Proceedings
INDIA: Organic Soybean Meal, C-533-902 | 9/3/21-12/31/22
Ecopure Specialties Limited
Shri Sumati Industries Private Limited
Abhay Oil Industries
Agrawal Oil & Biocheam
Bergwerff Organic India Private Limited; Suminter India Organics Private Limited
Bio Treasure Overseas
Delight Lifelike Products Private Ltd
Delight Sustainable Products Llp
Eco Gold Nutri & Organics Llp
Eco Gold Nutri And Organics Llp
Jay Shree Agro Products
Kaj Traders
Kanishka Organics Llp
Keshav Proteins and Organic LLP
Kiesriya Agro Exim Pvt., Ltd
Mani Loni
Navjyot International
Prasad Cotton Industries Pvt., Ltd
Radha Krishna Oil Product
Raj Foods International
Raj Natural Food Pvt., Ltd
Rajat Agro Commodities Pvt., Ltd
Reindeer Organics Llp
Sai Smaran Foods Ltd
Satguru Agro Resources Private Ltd
Satguru Organics Pvt., Ltd
Seasons International Pvt., Ltd
Shanti Overseas
Shanti Worldwide
Shemach Impex
Shivam Enterprises
Shri Narayani Mfg. Co.
Shri Sumati Industries Pvt. Ltd
Tejawat Organic Foods
Unique Organics Ltd
Vimala Food Products
Vinod Kumar Ranjeet Singh Bafna
We Organic Nature Pvt. Ltd
REPUBLIC OF KOREA: Carbon and Alloy Steel Cut-To-Length Plate, C-580-888 | 1/1/22-12/31/22
Ajin Industrial Co., Ltd
BDP International
Blue Track Equipment
Boxco, Inc
Bukook Steel Co., Ltd
Buma CE Co., Ltd
China Chengdu International Techno-Economic Cooperation Co., Ltd
Daehan I.M. Co., Ltd
Daehan Tex Co., Ltd
Daelim Industrial Co., Ltd
Daesam Industrial Co., Ltd
Daesin Lighting Co., Ltd
Daewoo International Corp
Dong Yang Steel Pipe
DKC
DK Corporation
DK Dongshin Co., Ltd
Dongbu Steel Co., Ltd
Dongkuk Industries Co., Ltd
Dongkuk Steel Mill Co., Ltd
EAE Automotive Equipment
EEW KHPC Co., Ltd
Eplus Expo Inc
GS Global Corp
Haem Co., Ltd
Han Young Industries
Hyosung Corp
Hyundai Steel Co
Jinmyung Frictech Co., Ltd
Khana Marine Ltd
Kindus Inc
Korean Iron and Steel Co., Ltd
Kyoungil Precision Co., Ltd
LG Electronics Inc
Menics
POSCO; Pohang Scrap Recycling Distribution Center Co. Ltd.; POSCO Nippon Steel RHF Joint Venture Co., Ltd.; POSCO Chemical Co., Ltd.; POSCO M-Tech Co., Ltd.; POSCO Terminal Co., Ltd.; POSCO SPS Co., Ltd
POSCO International Corporation
Qian'an Rentai Metal Products Co., Ltd
Samsun C&T Corp
Samsung Electronics Co., Ltd
Shinko
Shipping Imperial Co., Ltd
Sinchang Eng Co., Ltd
SK Networks Co., Ltd
SNP Ltd
Steel N People Ltd
Summit Industry
Sungjin Co., Ltd
Wonbang Tech Co., Ltd
Young Sun Steel
REPUBLIC OF KOREA: Large Diameter Welded Pipe, C-580-898 | 1/1/22 -12/31/22
AJU Besteel Co., Ltd
Chang Won Bending Co., Ltd
Daiduck Piping Co., Ltd
Dong Yang Steel Pipe Co., Ltd
Dongbu Incheon Steel Co., Ltd
EEW KHPC Co., Ltd
EEW Korea Co., Ltd
Hansol Metal Co. Ltd
HiSteel Co., Ltd
Husteel Co., Ltd. ⁷
Hyundai RB Co., Ltd
Hyundai Steel Company ⁸
Il Jin Nts Co. Ltd
Kem Solutions Co., Ltd
Kiduck Industries Co., Ltd
Kum Kang Kind. Co., Ltd
Kumsoo Connecting Co., Ltd
Nexteel Co., Ltd
POSCO International Corporation
Samkang M&T Co., Ltd
SeAH Steel Corporation; ESAB SeAH Corporation; SeAH Holdings Corporation
Seonghwa Industrial Co., Ltd
SIN‐E B&P Co., Ltd
Steel Flower Co., Ltd
WELTECH Co., Ltd
THE PEOPLE'S REPUBLIC OF CHINA: Aluminum Extrusions, C-570-968 | 1/1/22-12/31/22
American International Cargo Service Inc
Anhui Morden Living Co., Ltd
Anhuiyuxin Metal Products Co., Ltd
Anson
Beijing Kingpeng International Agriculture Corporation
Bisen Smart Access Co., Ltd
Caribbean Galaxy Aluminum, S.R.L
Changshu Liyuan Imp. & Exp. Co., Ltd
Changshu Wojun Machinery Equipment
Changzhou Hivalue Impex Co Ltd
Changzhou Infusion Plastics Industries
Changzhou Ryan-Al Door
Changzhou Yongming Machinery Manufacturing Co., Ltd
Chenming Industry and Commerce Shouguang Co., Ltd
Comau (Shanghai) Engineering Co., Ltd
Dalian Senmiao Wooden Products Co., Ltd
Dmax New Material Technology Co., Ltd
Dura Shower Enclosures Co., Ltd
Eastlinx Xiamen Co., Ltd
Epson Engineering (Shenzhen) Ltd
Foshan City Nanhai Yongfeng Aluminum
Fuzhou Sunmodo New Energy Equipment Co., Ltd
General Equipment Technology Development Ltd
Guangdong Canbo Electrical Co., Ltd
Guangdong JMA Aluminum Profile Factory (Group) Co., Ltd
Guangdong Suyue Aluminum Co., Ltd
Guangdong Victor Aluminum Co., Ltd
Guangdong Yaoyinshan Aluminum Co., Ltd
Guangzhou Graly Lighting Co., Ltd
Hangzhou Evernew Machinery & Equipment Co., Ltd
Hangzhou Siyi Imp.&Exp. Co., Ltd
Hota International Logistics Co., Ltd
HTL Furniture (China) Co., Ltd
Huazhijie Plastic Products
Hui Qian (Shanghai) International Trading Co., Ltd
Jer Education Technology
Ji & Da Trading Co, Ltd
Jiangsu Asia Pacific Aviation Technology Co., Ltd
Jiangsu Singcheer Intelligent Equipment Co., Ltd
Jiangsu SV Precision Components
Jiangsu Xinhuang Curtain Wall Co., Ltd
Larkcop International Co Ltd
Lien Chiang Furniture Hardware Co
Maxable Global Company Limited
Mithras Glass Hardware Factory
Ningbo Baihui Furniture Co., Ltd
Ningbo Huige Metal Products Co., Ltd
Ningbo Mark One International
Ningbo Yinzhou Outdoor Equipment Co., Ltd
Novista Group Co., Ltd
Paleo Furniture Co., Ltd
Qingdao Huayu Hardware Products Co
Qingdao Mrp Industry Co., Ltd
Qingdao Sea Nova Building Profiles
Reifenhauser Plastics Machinery (Suzhou) Co., Ltd
Rubicon Impt & Expt Co., Limited
Shandong Golden Realm Industrial Co., Ltd
Shandong Mount Tai Sheng Li Yuan Glass Co., Ltd
Shanghai An Mao E-Commerce Co Ltd
Shanghai Jobbetter Plastic Machinery Co., Ltd
Shanghai Promise Metal Co Ltd
Shanghai Xindun Trade Co., Ltd
Shenyang Yuanda Aluminum Industry Engineering Co. Ltd
Shenzhen Beiruitong Trade Co., Ltd
Shenzhen Thomas Homeware Co., Limited
Shenzhen Wanduoyi Supply Chain Co., Ltd
Shenzhen Wision Industrial Co., Ltd
Shenzhen Xinjiayi Plastic & Metal, Co. Ltd
ShineLong Technology Corp., Ltd
Sichuan Hangxin New Glazing Material Co., Ltd
Sinogar Aluminum Company Limited
Suzhou Bonate Int. Trading Co., Ltd
Suzhou Futong New Materials and High-tech Co., Ltd
Suzhou Hengxiang Import & Export Co., Ltd
Suzhou Jwell Machinery Co., Ltd
Taizhou Meihua Work of Art Co., Ltd
The Tigereye International Trading Co. Ltd
Tianjin Hongleey Tech Co., Ltd
Tianjin Hyosung Packaging Product Co., Ltd
Top Asian Resource Co., Ltd
Wuxi Longdet Imp. & Exp. Co., Ltd
Wuxi Rapid Scaffolding Engineering
Xiamen Hosetechnique Ltd
Xiamen Rex Technology Co., Ltd
Yantai Jintai International
Yantai Jintai International Trade
Yantai Jintai International Trade Co., Ltd
Jiangsu Yizheng Haitian Aluminum Industrial
Yonn Yuu Enterprise Co., Ltd
Yuyao Royal Industrial
Zhangjiagang Kingplas Machinery Co., Ltd
Zhejiang Hengfeng Technology Co., Ltd
Zhejiang Zhong Ming Ji Xiang
Zhuji Wenfeng Import and Export Co
THE PEOPLE'S REPUBLIC OF CHINA: Certain Vertical Shaft Engines Between 99cc and up to 225cc, and Parts Thereof, C-570-125 | 1/1/22-12/31/22
Chongqing Zongshen General Power Machine Co., Ltd.; Chongqing Zongshen Power Machinery Co., Ltd.; Zong Shen Industrial Group; Chongqing Zongshen Automobile Air Intake System Manufacturing Co., Ltd.; Chongqing Zongshen High Speed Boat Development Co., Ltd.; Chongqing Zong Shen Electrical Appliance Co., Ltd.; Chongqing Dajiang Power Equipment Co., Ltd
THE PEOPLE'S REPUBLIC OF CHINA: Non-Refillable Steel Cylinders, C-570-127 | 1/1/22-12/31/22
Ningbo Eagle Machinery & Technology Co., Ltd
Zhejiang KIN-SHINE Technology Co., Ltd
TURKEY: Large Diameter Welded Pipe, C-489-834 | 1/1/22-12/31/22
Cagil Makina San ve Tic A.S
Çimtaş Boru Imalatiral Ticaret Ltd
Emek Boru Makina Sanayi ve Ticaret A.S
Erciyas Celik Boru Sanayi A.S
HDM Celik Boru Sanayi ve Ticaret A.S./HDM Spiral Kaynakli Celik Boru A.S.⁹
Mazlum Mangtay Boru Son. Ins. Tar.Urn.San.ve Tic. A.S
Noksel Celik Boru Sanayi A.S
Ozbal Celik Boru San. Tic. Ve TAAH A.S
Spirally Welded Steel Pipe Inc
Toscelik Profil ve Sac End. A.S.¹⁰
Toscelik Spiral Boru Uretim A.S
Umran Celik Boru Sanayii A.S

Suspension Agreements

⁵ In English, the name HDM Spiral Kaynakli Celik Boru A.S. is HDM Spirally Welded Steel Pipe Co. Inc.

⁶ In English, the name Toscelik Profil ve Sac End. A.S. is Toscelik Profile and Sheet Ind. Co.

⁷ Subject merchandise both produced and exported by Husteel Co., Ltd. (Husteel) is excluded from the countervailing duty order. See Large Diameter Welded Pipe from the Republic of Korea: Countervailing Duty Order, 84 FR 18773 (May 2, 2019). Thus, Husteel's inclusion in this administrative review is limited to entries for which Husteel was not both the producer and exporter of the subject merchandise.

⁸ Subject merchandise both produced and exported by Hyundai Steel Company (Hyundai Steel) and subject merchandise produced by Hyundai Steel and exported by Hyundai Corporation are excluded from the countervailing duty order. See Large Diameter Welded Pipe from the Republic of Korea: Countervailing Duty Order, 84 FR 18773 (May 2, 2019). Thus, Hyundai Steel's inclusion in this administrative review is limited to entries for which Hyundai Steel was not the producer and exporter of the subject merchandise and for which Hyundai Steel was not the producer and Hyundai Corporation was not the exporter of subject merchandise.

⁹ In English, the name HDM Spiral Kaynakli Celik Boru A.S. is HDM Spirally Welded Steel Pipe Co. Inc.

¹⁰ In English, the name Toscelik Profil ve Sac End. A.S. is Toscelik Profile and Sheet Ind. Co.

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether ADs have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹¹ available at https://www.govinfo.gov/content/pkg/FR-2013-07-17/pdf/2013-17045.pdf, prior to submitting factual information in this segment. Note that Commerce has temporarily modified certain of its requirements for serving documents containing business proprietary information, until further notice.¹²

¹¹ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹² See Temporary Rule Modifying AD/CVD Service Requirements Due to COVID-19, 85 FR 41363 (July 10, 2020).

Any party submitting factual information in an AD or CVD proceeding must certify to the accuracy and completeness of that information using the formats provided at the end of the Final Rule.¹³ Commerce intends to reject factual submissions in any proceeding segments if the submitting party does not comply with applicable certification requirements.

¹³ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁴ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁴ See 19 CFR 351.302.

These initiations and this notice are in accordance with section 751(a) of the Act (19 U.S.C. 1675(a)) and 19 CFR 351.221(c)(1)(i).

Dated: July 6, 2023.
James Maeder,
Deputy Assistant Secretary for Antidumping and Countervailing Duty Operations.

[FR Doc. 2023-14753 Filed 7-11-23; 8:45 am]

BILLING CODE 3510-DS-P